OFFICE OF PERSONNEL MANAGEMENT

January 2006 Pay Adjustments

AGENCY: Office of Personnel Management.

ACTION: Notice.

SUMMARY: The President adjusted the rates of basic pay and locality payments for certain categories of Federal employees effective in January 2006. This notice documents those pay adjustments for the public record.

FOR FURTHER INFORMATION CONTACT: Brenda Roberts, Center for Pay and Performance Policy, Division for Strategic Human Resources Policy, Office of Personnel Management; (202) 606-2858; FAX (202) 606-0824; or e-mail to pay-performance-policy@opm.gov.

SUPPLEMENTARY INFORMATION: On December 22, 2005, the President signed Executive Order 13393 (70 FR 76655), which implemented the January 2006 pay adjustments. The President made these adjustments consistent with Public Law 109-115, November 30, 2005, which authorized an overall average pay increase of 3.1 percent for the “statutory pay systems,” including the General Schedule (GS).

Schedule 1 of Executive Order 13393 provides the rates for the 2006 General Schedule and reflects a 2.1 percent across-the-board increase. Executive Order 13393 also includes the percentage amounts of the 2006 locality payments. (See section 5 and Schedule 9 of Executive Order 13393.)

The publication of this notice satisfies the requirement in section 5(b) of Executive Order 13393 that the Office of Personnel Management (OPM) publish appropriate notice of the 2006 locality payments in the Federal Register.

GS employees receive locality payments under 5 U.S.C. 5304. Locality payments apply in the 48 contiguous States and the District of Columbia. In 2006, locality payments ranging from 12.52 percent to 28.68 percent apply to GS employees in 32 locality pay areas. (Changes in the 2006 locality pay areas definitions can be found at http://www.opm.gov/oca/06tables/locdef.asp.) These 2006 locality pay percentages, which replaced the locality pay percentages that were applicable in 2005, become effective on the first day of the first pay period beginning on or after January 1, 2006. An employee's locality-adjusted annual rate of pay is computed by increasing his or her scheduled annual rate of basic pay (as defined in 5 U.S.C. 5302(8) and 5 CFR 531.602) by the applicable locality pay percentage. (See 5 CFR 531.604 and 531.607.)

Executive Order 13393 establishes the new Executive Schedule, which incorporates a 1.9 percent increase required under 5 U.S.C. 5318 (rounded to the nearest $100). By law, Executive Schedule officials are not authorized to receive locality payments.

Executive Order 13393 establishes the range of rates of basic pay for senior executives in the Senior Executive Service (SES), as established pursuant to 5 U.S.C. 5382. The minimum rate of basic pay for the SES may not be less than the minimum rate payable under 5 U.S.C. 5376 for senior-level positions ($109,808 in 2006), and the maximum rate of basic pay may not exceed the rate for level III of the Executive Schedule ($152,000 in 2006). The maximum rate of the SES rate range will increase to level II of the Executive Schedule ($165,200 in 2006) for SES members covered by performance appraisal systems that are certified under 5 U.S.C. 5307(d) as making meaningful distinctions based on relative performance. By law, SES members are not authorized to receive locality payments. Agencies with certified performance appraisal systems in 2006 for senior executives and/or senior-level (SL) and scientific or professional (ST) positions also must apply a higher aggregate limitation on pay—up to the Vice President's salary ($212,100 in 2006).

The Executive order adjusted the rates of basic pay for administrative law judges (ALJs) by 2.1 percent (rounded to the nearest $100). The maximum rate of basic pay for ALJs is set by law at the rate for level IV of the Executive Schedule, which is now $143,000. The rate of basic pay for AL-2 is $139,500. The rates of basic pay for AL-3/A through 3/F range from $95,500 to $132,000. (See 5 U.S.C. 5372.)

The rates of basic pay for members of Contract Appeals Boards are calculated as a percentage of the rate for level IV of the Executive Schedule. (See 5 U.S.C. 5372a.) Therefore, these rates of basic pay were increased by approximately 1.9 percent. Also, the maximum rate of basic pay for SL/ST positions was increased by approximately 1.9 percent (to $143,000) because it is tied to the rate for level IV of the Executive Schedule. The minimum rate of basic pay for SL/ST positions is equal to 120 percent of the minimum rate of basic pay for GS-15 and thus was increased by 2.1 percent (to $109,808). (See 5 U.S.C. 5376.)

On November 22, 2005, the President's Pay Agent extended the 2006 locality-based comparability payments to certain categories of non-GS employees. The Government-wide categories include employees in SL/ST positions, ALJs, and Contract Appeals Board members. The maximum locality rate of pay for these employees is the rate for level III of the Executive Schedule ($152,000 in 2006).

On December 22, 2005, OPM issued a memorandum (CPM 2005-25) on the January 2006 pay adjustments. (See http://www.opm.gov/oca/compmemo/2005/2005-25.asp.) The memorandum transmitted Executive Order 13393 and provided the 2006 salary tables, locality pay areas and percentages, and information on general pay administration matters and other related information. The “2006 Salary Tables” posted on OPM's Web site at http://www.opm.gov/oca/06tables/index.asp are the official rates of pay for affected employees and are hereby incorporated as part of this notice.

Office of Personnel Management.
Linda M. Springer,
Director.

[FR Doc. E6-680 Filed 1-20-06; 8:45 am]

BILLING CODE 6325-39-P